DEPARTMENT OF THE INTERIOR

Bureau of Land Management

[LLWO35000.L14300000.FR0000]

Renewal of Approved Information Collection; OMB Control No. 1004-0029

AGENCY: Bureau of Land Management, Interior.

ACTION: 30-day notice and request for comments.

SUMMARY: The Bureau of Land Management (BLM) has submitted an information collection request to the Office of Management and Budget (OMB) to continue the collection of information from applicants for a land patent under the Color-of-Title Act. This request is for an extension without change of OMB control number 1004-0029.

DATES: The OMB is required to respond to this information collection request within 60 days but may respond after 30 days. For maximum consideration, written comments should be received on or before January 19, 2016.

ADDRESSES: Please submit comments directly to the Desk Officer for the Department of the Interior, OMB Control ID: 1004-0029, Office of Management and Budget, Office of Information and Regulatory Affairs, fax 202-395-5806, or by electronic mail at oira_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0029” regardless of the form of your comments.

FOR FURTHER INFORMATION CONTACT: Flora Bell, at 202-912-7347. Persons who use a telecommunication device for the deaf may call the Federal Information Relay Service at 1-800-877-8339, to leave a message for Ms. Bell. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on June 16, 2015 (80 FR 34453), and the comment period ended August 17, 2015. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0029 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Color-of-Title Application (43 CFR Subparts 2540 and 2541).

Forms:

• Form 2540-1, Color-of-Title Application;

• Form 2540-2, Color-of-Title Conveyances Affecting Color or Claim of Title; and

• Form 2540-3, Color-of-Title Tax Levy and Payment Record.

OMB Control Number: 1004-0029.

Abstract: The Color-of-Title Act (43 U.S.C. 1068, 1068a, and 1068b) provides for the issuance of a land patent to a tract of public land of up to 160 acres, where the claimant shows peaceful, adverse possession of the tract in good faith for more than 20 years, as well as sufficient improvement or cultivation of the land. The information covered in this submission enables the BLM to determine whether or not such a claimant has made a showing that is sufficient under the pertinent statutory and regulatory criteria.

Frequency of Collection: Once.

Estimated Number and Description of Respondents Annually: individuals, groups, and associations, which seek title to public land on the basis of adverse possession.

Estimated Reporting and Recordkeeping “Hour” Burden Annually: 21 hours.

Estimated Reporting and Recordkeeping “Non-Hour Cost” Burden: $70.

The following table details the individual components and respective hour burdens of this information collection request:

A. Type of response | B. Number of responses | C. Hours per response | D. Total hours (column B × column C)
Color-of-Title Application/Individuals | 5 | 3 | 15
Color-of-Title Application/Groups | 1 | 3 | 3
Color-of-Title Application/Corporations | 1 | 3 | 3
Totals | 7 |  | 21

Anna Atkinson,
Bureau of Land Management, Information Collection Clearance Officer (Acting).

[FR Doc. 2015-31901 Filed 12-17-15; 8:45 am]

BILLING CODE 4310-84-P